AGENCY FOR INTERNATIONAL DEVELOPMENT

Bureau for Humanitarian Response, Office of Food for Peace; Announcement of Draft Guidelines for Title II Development Activity Programs

Pursuant to the Agricultural Trade Development and Assistance Act of 1954 (Pub. L. 480, as amended), notice is hereby given that the Draft Guidelines for Title II Development Activity Programs are being made available to interested parties for the required thirty (30) day comment period.

Individuals who wish to receive a copy of these draft guidelines should contact: Office of Food for Peace, Agency for International Development, RRB 7.06-120, 1300 Pennsylvania Avenue, Washington, DC 20523-0809. Individuals who have questions or comments on the draft guidelines should contact Richard Newberg at the above address or at (202) 712-1828.

The thirty-day comment period will begin on the date that this announcement is published in the Federal Register.

Dated: February 8, 2001.
William T. Oliver,
Director, Office of Food for Peace, Bureau for Humanitarian Response.

[FR Doc. 01-4513 Filed 2-22-01; 8:45 am]

BILLING CODE 6116-01-M